DEPARTMENT OF HEALTH AND HUMAN SERVICES

Agency for Healthcare Research and Quality

Meeting of the National Advisory Council for Healthcare Research and Quality

AGENCY: Agency for Healthcare Research and Quality (AHRQ), HHS.

ACTION: Notice of public meeting.

SUMMARY: In accordance with section 10(a) of the Federal Advisory Committee Act, this notice announces a meeting of the National Council of Healthcare Research and Quality.

DATES: The meeting will be held on Friday, November 4, 2005, from 8:30 to 4 p.m. The meeting is open to the public.

ADDRESSES: The meeting will be held in the Conference Center, The Agency for Healthcare Research and Quality, 540 Gaither Road, Rockville, Maryland 20850.

FOR FURTHER INFORMATION CONTACT: Deborah Queenan, Coordinator of the Advisory Council, at the Agency for Healthcare Research and Quality, 540 Gaither Road, Rockville, Maryland 20850, (301) 427-1330. For press-related information, please contact Karen Migdail at (301) 427-1855.

If sign language interpretation or other reasonable accommodation for a disability is needed, please contact Mr. Donald L. Inniss, Director, Office of Equal Employment Opportunity Program, Program Support Center, on (301) 443-1144 no later than October 28. Agenda, roster, and minutes are available from Ms. Bonnie Campbell, Committee Management Office, Agency for Healthcare Quality and Research, 540 Gaither Road, Rockville, Maryland 20850. Ms. Campbell's phone number is (301) 427-1554.

SUPPLEMENTARY INFORMATION:

I. Purpose

Section 921 of the Public Health Service Act (42 U.S.C. 299c) established the National Advisory Council for Healthcare Research and Quality. In accordance with its statutory mandate, the Council is to advise the Secretary of the Department of Health and Human Services and the Director, Agency for Healthcare Research and Quality (AHRQ), on matters related to actions of the Agency through scientific research and dissemination of evidence based findings to enhance the quality, improve the outcomes, reduce the costs of health care services, improve access to such services, and to promote improvements in clinical practice and in the organization, financing, and delivery of health care services.

The Council is composed of members of the public appointed by the Secretary and Federal ex-officio members.

II Agenda

On Friday, November 4, 2005, the meeting will begin at 8:30 a.m., with the call to order by the Council Chair. The Director, AHRQ, will provide an update of the Agency's current research, programs, and initiatives. The Council will discuss the relationship between payment for and quality of healthcare services, and building a campaign to eliminate health care disparities. Time will be allotted for public comment. The meeting will adjourn at 4 p.m. The official agenda will be available on AHRQ's Web site at http://www.ahrq.gov no later than October 28, 2005.

Dated: October 17, 2005.
Carolyn M. Clancy,
Director.

[FR Doc. 05-21473 Filed 10-26-05; 8:45 am]

BILLING CODE 4160-90-M